DEPARTMENT OF JUSTICE

Antitrust Division

Notice Pursuant to the National Cooperative Research and Production Act of 1993—SwRI Biodiesel Fuel/Water Separation Cooperative R&D Program

Notice is hereby given that on September 27, 2006, pursuant to Section 6(a) of the National Cooperative Research and Production Act of 1993, 15 U.S.C. 4301 et seq. (“the Act”), SwRI Biodiesel Fuel/Water Separation Cooperative R&D Program (“SwRI”) has filed written notifications simultaneously with the Attorney General and the Federal Trade Commission disclosing changes in its membership. The notifications were filed for the purpose of extending the Act's provisions limiting the recovery of antitrust plaintiffs to actual damages under specified circumstances. Specifically, John Deere Product Engineering Center, Waterloo, IA has been added as a party to this venture.

No other changes have been made in either the membership or planned activity of the group research project. Membership in this group research project remains open, and SwRI intends to file additional written notification disclosing all changes in membership.

On December 6, 2005, SwRI filed its original notification pursuant to Section 6(a) of the Act. the Department of Justice published a notice in the Federal Register pursuant to Section 6(b) of the Act on December 22, 2005 (70 FR 76080).

The last notification was filed with the Department on February 7, 2006. A notice was published in the Federal Register pursuant to Section 6(b) of the Act on May 10, 2006 (71 FR 27280).

Patricia A. Brink,
Deputy Director of Operations, Antitrust Division.

[FR Doc. 06-8914 Filed 10-26-06; 8:45 am]

BILLING CODE 4410-11-M